DEPARTMENT OF HOMELAND SECURITY

United States Immigration and Customs Enforcement

Agency Information Collection Activities: Comment Request; Extension of an Information Collection

ACTION: 30-Day Notice of Information Collection for review; Student and Exchange Visitor Information System (SEVIS); OMB Control No. 1653-0038.

The Department of Homeland Security, U.S. Immigration and Customs Enforcement (USICE), is submitting the following information collection request for review and clearance in accordance with the Paperwork Reduction Act of 1995. The information collection is published in the Federal Register to obtain comments from the public and affected agencies. The information collection was previously published in the Federal Register on March 28, 2014, Vol. 79 No. 06903 allowing for a 60 day comment period. The purpose of this notice is to allow an additional 30 days for public comments.

Written comments and suggestions regarding items contained in this notice and especially with regard to the estimated public burden and associated response time should be directed to the Office of Information and Regulatory Affairs, Office of Management and Budget. Comments should be addressed to the OMB Desk Officer for U.S. Immigration and Customs Enforcement, Department of Homeland Security, and sent via electronic mail to oira_submission@omb.eop.gov or faxed to (202) 395-5806.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Student and Exchange Visitor Information System (SEVIS).

(3) Agency form number, if any, and the applicable component of the Department of Homeland Security sponsoring the collection: Forms I-17 and I-20; U.S. Immigration and Customs Enforcement.

(4) Affected public who will be asked or required to respond, as well as a brief abstract: Primary: Approximately 37,213 designated school officials (DSOs) representing some 10,715 academic and vocational institutions.

(5) An estimate of the total number of respondents and the amount of time estimated for an average respondent to respond:

Number of respondents | Form name/form No. | Average burden per response (in hours)
37,213 DSOs | Form I-17, “Petition for Approval of School for Attendance by Nonimmigrant Student” | 4.000
| Response Action: Initial School Processing
| Response Action: Petition Updates | 0.249
| Response Action: Recertification Process | 4.000
| Response Action: DSO Training, Research, Reports and Professional Development. | 14.000
| Form I-17 Hours | 22.249
37,213 DSOs | Form I-20, “Certificate of Eligibility for Nonimmigrant (F-1) Student Status—For Academic and Language Students” and Form I-20, “Certificate of Eligibility for Nonimmigrant (M-1) Student Status—For Vocational Students.” Response Action: F-1/M-1 visa Initial Student Processing (Real Time Interface (RTI)) | 1.250
| Response Action: F-1/M-1 visa Initial Student Processing (Batch) | 0.040
| Response Action: F-1/M-1 visa Student Updates (RTI) | 0.249
| Response Action: F-1/M-1 visa Student Updates (Batch) | 0.048
| Response Action: F-1/M-1 visa Student Optional Practical Training (OPT) | 0.083
| Response Action: F-1/M-1 visa OPT 17-Month Extension | 0.083
| Response Action: F-2/M-2 visa (dependent) Initial Processing (RTI) | 0.083
| Response Action: F-2/M-2 visa (dependent) Initial Processing (Batch) | 0.016
| Forms I-20 Average Hours | 1.852

(6) An estimate of the total public burden (in hours) associated with the collection: The burden figures have been updated since the publication of the 60 day Federal Register notice to provide better estimates. Form I-17 annual burden hours 537,708; Forms I-20 annual burden hours 490,176. Total annual burden hours 1,027,884.

Dated: June 13, 2014.
Scott Elmore,
Program Manager, Forms Management Office, Office of the Chief Information Officer, U.S. Immigration and Customs Enforcement, Department of Homeland Security.

[FR Doc. 2014-14226 Filed 6-17-14; 8:45 am]

BILLING CODE 9111-28-P